DEPARTMENT OF COMMERCE

International Trade Administration

[A-560-837]

Prestressed Concrete Steel Wire Strand From Indonesia: Final Affirmative Determination of Sales at Less Than Fair Value, and Final Affirmative Determination of Critical Circumstances, In Part

AGENCY: Enforcement and Compliance, International Trade Administration, Department of Commerce.

SUMMARY: The Department of Commerce (Commerce) determines that prestressed concrete steel wire strand (PC strand) from Indonesia is being, or is likely to be, sold in the United States at less than fair value (LTFV). The final weighted-average dumping margins are listed below in the section entitled “Final Determination.”

DATES: Applicable April 9, 2021.

FOR FURTHER INFORMATION CONTACT: Abdul Alnoor or Drew Jackson, AD/CVD Operations, Office IV, Enforcement and Compliance, International Trade Administration, U.S. Department of Commerce, 1401 Constitution Avenue NW, Washington, DC 20230; telephone: (202) 482-4554 or (202) 482-4406, respectively.

SUPPLEMENTARY INFORMATION:

Background

On November 19, 2020, Commerce published the Preliminary Determination in the Federal Register and invited interested parties to comment on our findings.¹ The petitioners in this investigation are Insteel Wire Products, Sumiden Wire Products Corporation, and Wire Mesh Corp. The mandatory respondents subject to this investigation are PT. Bumi Steel Indonesia (PT Bumi) and P.T. Kingdom Indah (Kingdom Indah). A summary of the events that occurred since Commerce published the Preliminary Determination, as well as a full discussion of the issues raised by parties for this final determination, may be found in the Issues and Decision Memorandum.²

¹ See Prestressed Concrete Steel Wire Strand from Indonesia: Preliminary Affirmative Determination of Sales at Less Than Fair Value, Preliminary Affirmative Determination of Critical Circumstances, in Part, Postponement of Final Determination, and Extension of Provisional Measures, 85 FR 73676 (November 19, 2020) (Preliminary Determination), and accompanying Preliminary Decision Memorandum.

² See Memorandum, “Issues and Decision Memorandum for the Final Affirmative Determination in the Less-Than-Fair-Value Investigation of Prestressed Concrete Steel Wire Strand,” dated concurrently with, and hereby adopted by, this notice (Issues and Decision Memorandum).

The Issues and Decision Memorandum is a public document and is available electronically via Enforcement and Compliance's Antidumping and Countervailing Duty Centralized Electronic Service System (ACCESS). ACCESS is available to registered users at https://access.trade.gov. In addition, a complete version of the Issues and Decision Memorandum can be accessed directly at http://enforcement.trade.gov/frn/index.html.

Period of Investigation

The period of investigation (POI) is April 1, 2019, through March 31, 2020.

Scope of the Investigation

The product covered by this investigation is PC strand from Indonesia. For a complete description of the scope of this investigation, see Appendix I.

Analysis of Comments Received

All issues raised in the case briefs and rebuttal briefs submitted by interested parties in this proceeding are discussed in the Issues and Decision Memorandum. A list of the issues raised by parties and responded to by Commerce in the Issues and Decision Memorandum is in Appendix II to this notice.

Verification

Commerce was unable to conduct an on-site verification of the information relied upon in making its final determination in this investigation as provided for in section 782(i) of the Tariff Act of 1930, as amended (the Act). Accordingly, we took additional steps in lieu of an on-site verification and requested additional documentation and information.³

³ See Commerce's Letter, Untitled, dated December 9, 2020; see also Kingdom Indah's Letter, “Prestressed Concrete Steel Wire Strand from Indonesia—Response for Antidumping Duty Investigation Questionnaire In Lieu of On Site Verification of PT. Kingdom Indah (`PTKI'),” dated December 17, 2020.

Changes Since the Preliminary Determination

We calculated Kingdom Indah's dumping margin using the cost of production, home-market, and U.S. sales databases that it submitted on November 6, 2020. We relied on the costs submitted by Kingdom Indah except that, consistent with our Preliminary Determination, we continued to reallocate Kingdom Indah's reported direct material and conversion costs to mitigate cost differences not associated with the physical characteristics of products. For further information, see the Issues and Decision Memorandum.

Use of Facts Available and Adverse Facts Available

We have continued to base PT Bumi's dumping margin on total adverse facts available, pursuant to sections 776(a) and 776(b) of the Act. For further information, see the Issues and Decision Memorandum.

All-Others Rate

Section 735(c)(5)(A) of the Act provides that the estimated weighted-average dumping margin for all other producers and exporters not individually investigated shall be equal to the weighted average of the estimated weighted-average dumping margins established for individually investigated exporters and producers, excluding any dumping margins that are zero, de minimis, or any dumping margins determined entirely under section 776 of the Act. Commerce assigned PT Bumi a dumping margin that is entirely based on section 776 of the Act. Therefore, the only dumping margin that is not zero, de minimis or based entirely on the facts otherwise available is the dumping margin that Commerce calculated for Kingdom Indah. Consequently, we assigned the dumping margin calculated for Kingdom Indah to all producers and exporters that were not individually examined.

Final Affirmative Determination of Critical Circumstances, in Part

Commerce determines that, in accordance with section 735(a)(3) of the Act, critical circumstances exist with respect to PT Bumi but do not exist with respect to Kingdom Indah or companies subject to the “all-others” rate. For further discussion of Commerce's critical circumstances determination, see the Issues and Decision Memorandum.

Final Determination

The final estimated weighted-average dumping margins are as follows:

⁴ Also referred to as PT. Bumi Nindyyacipta in this proceeding.

Exporter/producer | Estimated weighted- average dumping margin (percent)
P.T. Kingdom Indah | 5.76
PT. Bumi Steel Indonesia ⁴ | ** 72.28
All Others | 5.76
** (Based on total AFA).

Disclosure

We intend to disclose to parties to the proceeding the calculations performed for this final determination within five days of any public announcement or, if there is no public announcement, within five days of the date of the publication of this notice in accordance with 19 CFR 351.224(b).

Continuation of Suspension of Liquidation

In accordance with section 735(c)(1)(B) of the Act, Commerce will instruct U.S. Customs and Border Protection (CBP) to continue to suspend liquidation of all appropriate entries of subject merchandise, as described in Appendix I to this notice, from Kingdom Indah and all other producers and exporters not individually examined, that were entered, or withdrawn from warehouse, for consumption on or after November 19, 2020, the date of publication of the Preliminary Determination in the Federal Register.

Section 735(c)(4) of the Act provides that if there is an affirmative determination of critical circumstances, any suspension of liquidation shall apply to unliquidated entries of subject merchandise entered, or withdrawn from warehouse, for consumption on or after the later of: (a) The date which is 90 days before the date on which the suspension of liquidation was first ordered; or (b) the date on which notice of initiation of the investigation was published. As noted above, Commerce finds that critical circumstances exist for imports of subject merchandise from PT. Bumi. Accordingly, in accordance with section 735(c)(4) of the Act, suspension of liquidation shall continue to apply to unliquidated entries of subject merchandise from PT Bumi that were entered, or withdrawn from warehouse, for consumption on or after the date which is 90 days before the date of publication of the Preliminary Determination in the Federal Register.

Pursuant to section 735(c)(1)(B)(ii) of the Act and 19 CFR 351.210(d), upon publication of this notice, Commerce will instruct CBP to require a cash deposit for entries of subject merchandise equal to an estimated weighted average dumping margin or the estimated all-others rate, as follows: (1) The cash deposit rate for the respondents listed in the table above will be equal to the respondent-specific estimated weighted-average dumping margin determined in this final determination; (2) if the exporter is not a respondent identified in the table above but the producer is, then the cash deposit rate will be equal to the estimated weighted-average dumping margin established for that producer of the subject merchandise; and (3) the cash deposit rate for all other producers and exporters will be equal to the all-others estimated weighted-average dumping margin.

These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of PC strand no later than 45 days after our final determination. If the ITC determines that material injury or threat of material injury does not exist, the proceeding will be terminated, and all cash deposits will be refunded. If the ITC determines that material injury or threat of material injury does exist, Commerce will issue an antidumping duty order directing CBP to assess, upon further instruction by Commerce, antidumping duties on all imports of the subject merchandise, entered, or withdrawn from warehouse, for consumption on or after the effective date of the suspension of liquidation.

Notification Regarding Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a violation subject to sanction.

Notification to Interested Parties

We are issuing and publishing this determination and notice in accordance with sections 735(d) and 777(i) of the Act and 19 CFR 351.210(c).

Dated: April 5, 2021.
Christian Marsh,
Acting Assistant Secretary for Enforcement and Compliance.

Appendix I

Scope of the Investigation

The merchandise covered by this investigation is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to this investigation is currently classifiable under subheadings 7312.10.3010 and 7312.10.3012 of the Harmonized Tariff Schedule of the United States (HTSUS). Although the HTSUS subheadings are provided for convenience and customs purposes, the written description of the scope of this investigation is dispositive.

Appendix II

List of Sections in the Issues and Decision Memorandum

I. Summary

II. Background

III. Scope of the Investigation

IV. Changes Since the Preliminary Determination

V. Final Affirmative Determination of Critical Circumstances, in Part

VI. Discussion of the Issues

Comment 1: Whether to Continue to Apply, and the Basis for Applying, Total AFA to PT Bumi

Comment 2: Whether Commerce Should Apply Total AFA to Kingdom Indah

VII. Recommendation

[FR Doc. 2021-07365 Filed 4-8-21; 8:45 am]

BILLING CODE 3510-DS-P